DEPARTMENT OF COMMERCE

International Trade Administration

[A-489-822]

Welded Line Pipe From the Republic of Turkey: Preliminary Rescission of Antidumping Duty Administrative Review, in Part, and Preliminary Deferral of Administrative Review, in Part; 2018-2019

AGENCY: Enforcement and Compliance, International Trade Administration, Department of Commerce.

SUMMARY: The Department of Commerce (Commerce) preliminarily determines that Cimtas Boru Imalatlari ve Ticaret, Ltd. Sti. (Cimtas), the sole mandatory respondent and only company with suspended entries during the period of review (POR), did not have reviewable sales during the POR. We are preliminarily deferring, in part, Cimtas's sales reporting until a subsequent review period and are preliminarily rescinding, in part, this administrative review with respect to the remaining 18 companies. Interested parties are invited to comment on these preliminary results.

DATES: Applicable December 17, 2020.

FOR FURTHER INFORMATION CONTACT: Alice Maldonado, AD/CVD Operations, Office II, Enforcement and Compliance, International Trade Administration, U.S. Department of Commerce, 1401 Constitution Avenue NW, Washington, DC 20230; telephone: (202) 482-4682.

SUPPLEMENTARY INFORMATION:

Background

On December 6, 2019, Commerce published in the Federal Register a notice of opportunity to request an administrative review of the antidumping duty order on welded line pipe from the Republic of Turkey (Turkey) for the period December 1, 2018, through November 30, 2019.¹ In December 2019, Commerce received a timely request, in accordance with section 751(a)(1) of the Tariff Act of 1930, as amended (the Act), to conduct an administrative review of the antidumping duty order on welded line pipe from Turkey from California Steel Industries, TMK IPSCO, Welspun Tubular LLC USA, and Maverick Tube Corporation (collectively, the petitioners).² Based on this request, on February 6, 2020, in accordance with 751(a)(1) of the Act, Commerce published in the Federal Register a notice of initiation listing 19 companies for which the petitioners requested an administrative review.³ On February 24, 2020, Commerce selected Cimtas, the only company with suspended entries of welded line pipe from Turkey during the POR, for individual examination and issued the antidumping duty questionnaire to the company.⁴

¹ See Antidumping or Countervailing Duty Order, Finding, or Suspended Investigation; Opportunity to Request Administrative Review, 84 FR 66880 (December 6, 2019).

² See Petitioners' Letter, “Welded Line Pipe from the Republic of Turkey: Request for Administrative Review,” dated December 27, 2019.

³ See Initiation of Antidumping and Countervailing Duty Administrative Reviews, 85 FR 6896 (February 6, 2020); see also Initiation of Antidumping and Countervailing Duty Administrative Reviews, 85 FR 13860, 13868 (March 10, 2020) for correction of the spelling of certain company names.

⁴ See Memorandum, “2018-2019 Administrative Review of the Antidumping Duty Order on Welded Line Pipe from Turkey: Respondent Selection,” dated February 24, 2020.

On April 24, 2020, Commerce tolled all deadlines in administrative reviews by 50 days, and, on July 21, 2020, Commerce tolled deadlines for preliminary and final results in administrative reviews by an additional 60 days,⁵ thereby extending the deadline for withdrawing requests for review until June 25, 2020, and the deadline for these preliminary results until December 21, 2020.

⁵ See Memorandum, “Tolling of Deadlines for Antidumping and Countervailing Duty Administrative Reviews in Response to Operational Adjustments Due to COVID-19,” dated April 24, 2020; see also Memorandum, “Tolling of Deadlines for Antidumping and Countervailing Duty Administrative Reviews,” dated July 21, 2020.

On August 20, 2020, the petitioners withdrew their request for an administrative review for the 19 companies for which they had requested a review.⁶

⁶ See Petitioners' Letter, “Welded Line Pipe from the Republic of Turkey: Withdrawal of Request for Administrative Review,” dated August 20, 2020.

Scope of the Order

The products covered by the order are circular welded carbon and alloy steel (other than stainless steel) pipe of a kind used for oil or gas pipelines (welded line pipe), not more than 24 inches in nominal outside diameter, regardless of wall thickness, length, surface finish, end finish, or stenciling. Welded line pipe is normally produced to the American Petroleum Institute (API) specification 5L, but can be produced to comparable foreign specifications, to proprietary grades, or can be non-graded material. All pipe meeting the physical description set forth above, including multiple-stenciled pipe with an API or comparable foreign specification line pipe stencil is covered by the scope of this order.

The welded line pipe that is subject to the order is currently classifiable in the Harmonized Tariff Schedule of the United States (HTSUS) under subheadings 7305.11.1030, 7305.11.5000, 7305.12.1030, 7305.12.5000, 7305.19.1030, 7305.19.5000, 7306.19.1010, 7306.19.1050, 7306.19.5110, and 7306.19.5150. The subject merchandise may also enter in HTSUS 7305.11.1060 and 7305.12.1060. While the HTSUS subheadings are provided for convenience and customs purposes, the written description of the scope of the order is dispositive.

Preliminary Partial Rescission of Administrative Review

Pursuant to 19 CFR 351.213(d)(1), Commerce will rescind an administrative review, in whole or in part, if a party who requested the review withdraws the request within 90 days of the date of publication of notice of initiation of the requested review. The aforementioned withdrawal request was untimely submitted; therefore, we are not rescinding this administrative review based on this request. Nonetheless, the record of this administrative review indicates that, of the 19 companies subject to review, Cimtas is the only company with suspended entries of subject merchandise during the period of review.⁷ It is Commerce's practice to rescind an administrative review pursuant to 19 CFR 351.213(d)(3) when there are no reviewable entries of subject merchandise during the POR subject to the antidumping duty order for which liquidation is suspended.⁸ At the end of the administrative review, the suspended entries are liquidated at the assessment rate computed for the review period.⁹ Therefore, for an administrative review to be conducted, there must be a reviewable, suspended entry to be liquidated at the newly calculated assessment rate. Accordingly, pursuant to 19 CFR 351.213(d)(3), we have preliminarily determined to rescind this administrative review with respect to the 18 companies listed in the appendix to this notice that have no reviewable, suspended entries of subject merchandise during the POR.

⁷ See Memorandum, “Release of U.S. Customs and Border Protection Entry Data,” dated February 6, 2020.

⁸ See, e.g., Forged Steel Fittings from Taiwan: Rescission of Antidumping Duty Administrative Review; 2018-2019, 85 FR 71317, 71318 (November 9, 2020); see also Certain Circular Welded Non-Alloy Steel Pipe from Mexico: Rescission of Antidumping Duty Administrative Review; 2016-2017, 83 FR 54084 (October 26, 2018).

⁹ See 19 CFR 351.212(b)(1).

Partial Deferral of Administrative Review

For the reasons discussed in the accompanying proprietary analysis memorandum, we preliminarily determine that there are no reviewable sales to an unaffiliated U.S. customer related to Cimtas's POR entries of welded line pipe.¹⁰ Therefore, because there are no reviewable sales during this POR, we are deferring Cimtas's reporting of its sales to the appropriate subsequent review, contingent upon a request for review of Cimtas.

¹⁰ See Memorandum, “Antidumping Duty Administrative Review of Welded Line Pipe from the Republic of Turkey: Business Proprietary Information (BPI) Related to the Preliminary Results,” dated concurrently with this notice.

Public Comment

Case briefs or other written comments may be submitted to the Assistant Secretary for Enforcement and Compliance. Interested parties may submit case briefs to Commerce no later than 30 days after the date of publication of this notice.¹¹ Rebuttal briefs, limited to issues raised in case briefs, may be submitted no later than seven days after the deadline for case briefs.¹² Commerce has modified certain of its requirements for serving documents containing business proprietary information until further notice.¹³ Pursuant to 19 CFR 351.309(c)(2) and (d)(2), parties who submit case briefs or rebuttal briefs in this investigation are encouraged to submit with each argument: (1) A statement of the issue; (2) a brief summary of the argument; and (3) a table of authorities.

¹¹ See 19 CFR 351.309(c).

¹² See 19 CFR 351.309; see also 19 CFR 351.303 (for general filing requirements).

¹³ See Temporary Rule Modifying AD/CVD Service Requirements Due to COVID-19; Extension of Effective Period, 85 FR 41363 (July 10, 2020).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at a date and time to be determined. Parties should confirm by telephone the date, time, and location of the hearing two days before the scheduled date.

An electronically-filed document must be received successfully in its entirety via Enforcement and Compliance's Antidumping and Countervailing Duty Centralized Electronic Service System (ACCESS) by 5:00 p.m. Eastern Time on the established deadline.

Final Results

Commerce intends to issue the final results of this administrative review, including the results of its analysis of issues raised in any written briefs, not later than 120 days after the date of publication of this notice, unless otherwise extended.¹⁴

¹⁴ See section 751(a)(3)(A) of the Act.

Assessment

If Commerce proceeds to a final rescission of this administrative review, Commerce will instruct U.S. Customs and Border Protection (CBP) to liquidate any suspended entries for the 18 companies listed in Appendix I at the rate in effect at the time of entry. We intend to issue liquidation instructions to CBP 15 days after publication of the final results of this review. If Commerce proceeds to a final deferral with respect to Cimtas's suspended entries during the POR, they will remain suspended until parties have an opportunity to request a review of the antidumping duty order of welded line pipe from Turkey for the period December 1, 2019, through November 30, 2020. If Commerce does not receive a timely request to review Cimtas for the period December 1, 2019, through November 30, 2020, Commerce will instruct CBP to assess antidumping duties on and liquidate Cimtas' suspended entries during the POR at the cash deposit rate in effect at the time of entry. If Commerce receives a timely request to review Cimtas for the period December 1, 2019, through November 30, 2020, Cimtas's suspended entries during the POR will remain suspended until the completion of the review and will be liquidated based on the final results for Cimtas.

Cash Deposit Requirements

If Commerce proceeds to a final rescission, in part, and final deferral, in part, of this administrative review, no cash deposit rates will change. Accordingly, the current cash deposit requirements shall remain in effect until further notice.

Notification to Importers

This notice serves as a reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification Regarding Administrative Protective Orders

This notice also serves as a reminder to parties subject to administrative protective order (APO) of their responsibility concerning the return or destruction of proprietary information disclosed under APO in accordance with 19 CFR 351.305. Timely written notification of the return/destruction of APO materials or conversion to judicial protective order is hereby requested. Failure to comply with the regulations and terms of an APO is a violation which is subject to sanction.

Notification to Interested Parties

We are issuing and publishing these results in accordance with sections 751(a)(1) of the Act and 19 CFR 351.213(d).

Dated: December 11, 2020.
James Maeder,
Deputy Assistant Secretary for Antidumping and Countervailing Duty Operations.

Appendix

Borusan Istikbal Ticaret

Borusan Mannesmann Boru Sanayi ve Ticaret A.S.

Cayirova Boru Sanayi ve Ticaret A.S.

Emek Boru Makina Sanayi ve Ticaret A.S.

Erbosan Erciyas Tube Industry and Trade Co. Inc.

Erciyas Celik Boru Sanayii A.S.

Guven Celik Boru Sanayii ve Ticaret Ltd. Sti.

Has Altinyagmur celik Boru Sanayii ve Ticaret Ltd. Sti.

HDM Steel Pipe Industry & Trade Co. Ltd.

Metalteks Celik Urunleri Sanayii

MMZ Onur Boru Profil Uretim Sanayii ve Ticaret A.S.

Noksel Steel Pipe Co. Inc.

Ozbal Celik Boru

Toscelik Profile and Sheet Industry, Co.

Tosyali Dis Ticaret A.S.

Umran Celik Boru Sanayii

YMS Pipe & Metal Sanayii A.S.

Yucel Boru Ithalat-Ihracat ve Pazarlama A.S.

[FR Doc. 2020-27791 Filed 12-16-20; 8:45 am]

BILLING CODE 3510-DS-P